DEPARTMENT OF DEFENSE

Defense Finance and Accounting Service; Privacy Act of 1974; System of Records

AGENCY: Defense Finance and Accounting Service, DoD.

ACTION: Notice of altered System of Records.

SUMMARY: The Defense Finance and Accounting Service proposes to alter an existing system of records notice in its inventory of record systems subject to the Privacy Act of 1974, (5 U.S.C. 552a), as amended. The alteration consists of adding a new routine use to permit the release of information to the Department of the Treasury for administrative wage garnishment.

DATES: This action will be effective without further notice on July 29, 2002, unless comments are received that would result in a contrary determination.

ADDRESSES: FOIA/PA Program Manager, Defense Finance and Accounting Service—Denver Center, Specialized Legal Support Division, Office of General Counsel, 6760 E. Irvington Place, Denver, CO 80279-8000.

FOR FURTHER INFORMATION CONTACT: Ms. Linda Krabbenhoft on (303) 676-7514.

SUPPLEMENTARY INFORMATION: The complete inventory of Defense Finance and Accounting Service records system notices subject to the Privacy Act of 1974 (5 U.S.C. 552a), as amended, have been published in the Federal Register and are available from the address above.

The proposed system report, as required by 5 U.S.C. 552a(r) of the Privacy Act of 1974, as amended, was submitted on June 19, 2002, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: June 21, 2002.
Patricia L. Toppings,
Alternate OSD Federal Register Liaison Officer, Department of Defense.

T7332

System name:

Defense Debt Management System (April 8, 1997, 62 FR 16793).

Changes:

* * * * *

System location:

Delete entry and replace with ‘Defense Finance and Accounting Service-Denver Center, 6760 East Irvington Place, Denver, CO 80279-8000.’

Categories of individuals covered by the system:

Delete ‘contractors’ from entry.

Categories of records in the system:

First paragraph, first sentence, add ‘billing and follow-up’ between ‘debt’ and ‘collection’. In second sentence replace ‘amount of debt or’ with ‘original debt principal and the’, and add ‘late payment charges’, and ‘due process notice, and records of e-mail, telephone, or written’ to entry.

Third paragraph, replace first sentence with ‘Correspondence with other Federal agencies requesting administrative offset from payments owed to the debtor.’

Fourth paragraph, add ‘U.S. Department of Justice’ to entry.

Delete paragraphs six and nine.

* * * * *

Purpose(s):

Delete the fourth paragraph.

Delete fifth paragraph and replace with ‘To determine the validity of waivers or to make referrals to the Defense Office of Hearings and Appeals (DOHA).’

Routine uses of records maintained in the system, including categories of users and the purposes of such uses:

Delete paragraphs five and nine.

Add a new paragraph ‘To the U.S. Department of Treasury (DOT) for centralized administrative or salary offset, including the offset of Federal income tax refunds, for the purpose of collecting debts owed the U.S. Government; to the DOT contracted private collection agencies for the purpose of obtaining collection services, including administrative wage garnishment (AWG) in accordance with the Debt Collection Improvement Act of 1996 (Pub. L. 104-134), 31 U.S.C. 3720D, and 31 CFR part 285, to recover moneys owed to the U.S. Government.’

* * * * *

T7332

System name:

Defense Debt Management System.

System location:

Defense Finance and Accounting Service-Denver Center, 6760 East Irvington Place, Denver, CO 80279-8000.

Categories of individuals covered by the system:

Individuals who are indebted to a Department of Defense (DoD) agency that have transferred debts to the Defense Debt Management System serviced by the Defense Finance and Accounting Service.

EXCLUSION:

This system does not include individuals who are indebted to a DoD agency and who have been identified as currently receiving pay from DoD.

Categories of records in the system:

Information varies depending on the debtor and the related history of debt billing and follow-up collection activity. These records may include name, Social Security Number, mailing address, original debt principal and the delinquent amount, basis of the debt, date debt arose, late payment charges, office referring the debt, collection efforts, credit reports, collection letters, due process notice, and records of e-mail, telephone, or written correspondence to or from the debtor relating to the debt.

Correspondence with other Federal agencies to initiate the collection of debts through voluntary or involuntary offset procedures against the indebted employees’ salaries or compensation due a retiree.

Correspondence with other Federal agencies requesting administrative offset from payments owed to the debtor. These records may include individual's name, rank, date of birth, Social Security Number, debt amount, documentation establishing overpayment status, military pay records, financial status affidavits, credit references, and substantiating documents such as military pay orders, pay adjustment authorizations, military master pay account printouts, records of travel payments, financial record data folders, miscellaneous vouchers, debtor financial records, credit reports, promissory notes, and debtor financial statements.

Information on U.S. Treasury Department, Internal Revenue Service (IRS), U.S. Department of Justice, and U.S. General Accounting Office (GAO) inquiries, judicial proceedings regarding bankruptcy, pay account histories, and token payment information.

Applications for waiver of erroneous payment or for remission of indebtedness with supporting documents including statements of financial status (personal income and expenses), statements of commanders or Defense Accounting Officers, correspondence with debtors, or records of overpayments of Survivor Benefit Plan benefits.

Reports from probate courts regarding the estates of deceased debtors.

Reports from bankruptcy courts regarding claims of the U.S. Government against debtors.

Authority for maintenance of the system:

5 U.S.C. 301, Departmental Regulations, 5512, 5513, 5514, and 5584; 10 U.S.C. 1442, 1453, 2774, 2775, 9835; 31 U.S.C. 3325, 3342, 3526, 3701, 3702, 3711, 3716-3718; 32 U.S.C. 710, 716; 37 U.S.C. 1007(c); 40 U.S.C. 721, 723, 725, 726, 727, 728, 729; the Debt Collection Act of 1982 (Pub. L. 97-365, as amended by Pub. L. 104-134, the Debt Collection Improvement Act of 1996); Pub. L. 89-508; E.O. 9397 (SSN); and DoD 7000.14-R, Department of Defense Financial Management Regulation, Volume 5, Part Two.

Purpose(s):

To administratively manage the collection of debts owed to the Department of Defense (DoD). These debts include, but are not limited to, past due loan payments, overpayments, fines, interest, penalties, administrative fees, and amounts derived from damages, leases, and sales of real or personal property.

To implement the salary offset provisions of 5 U.S.C. 5514, the administrative offset provisions of 31 U.S.C. 3711 and 3716-3718, and the provisions of the Federal Claims Collection Standards (31 CFR parts 900-904), that apply to personal debts.

To permit collection of delinquent claims and debts owed to the U.S. Government under any program or service administered by any creditor DoD Component.

To determine the validity of waivers or to make referrals to the Defense Office of Hearings and Appeals (DOHA).

To maintain records of investigations conducted for the purpose of confirming, canceling, or determining if the debts are accurate or valid, and whether the debt should be remitted or waived.

All records in this system are subject to use in authorized computer matching programs within DoD and with other Federal agencies or non-Federal agencies as regulated by the Privacy Act of 1974 (5 U.S.C. 552a), as amended.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the U.S. General Accounting Office, the U.S. Department of the Justice, Internal Revenue Service, U.S. Department of Treasury, or other Federal agencies for further collection action on any delinquent account when circumstances warrant.

To commercial credit reporting agencies for the purpose of adding debt payment or non-payment data to a credit history file on an individual for use in the administration of debt collection. Delinquent debt information may be furnished for the purpose of establishing an inducement for debtors to pay their obligations to the U.S. Government.

To any Federal agency where the debtor is employed or receiving some type of payment from that agency for the purpose of collecting debts owed the U.S. Government by non-centralized offset. Non-centralized offset encompasses an offset program administered by any Federal agency other than the U.S. Department of Treasury. The agency holding the payment subject to offset will use the indebtedness information for collection purposes after counseling the debtor. The collection may be accomplished either voluntarily or involuntarily by initiating administrative or salary offset procedures under the provisions of the Debt Collection Act of 1982 (Pub. L. 97-365, as amended by Pub. L. 104-134, the Debt Collection Improvement Act of 1996).

To the U.S. Department of Treasury (DOT) for centralized administrative or salary offset, including the offset of Federal income tax refunds, for the purpose of collecting debts owed the U.S. Government; to the DOT contracted private collection agencies for the purpose of obtaining collection services, including administrative wage garnishment (AWG) in accordance with the Debt Collection Improvement Act of 1996 (Pub. L. 104-134), 31 U.S.C. 3720D, and 31 CFR part 285, to recover moneys owed to the U.S. Government.

To the U.S. Department of Veteran Affairs for administration of laws pertaining to veterans' benefits.

To any Federal agency for the purpose of accomplishing the administrative procedures to collect or dispose of a debt owed to the U.S. Government. This includes, but is not limited to, the Office of Personnel Management for personnel management functions and the Internal Revenue Service to obtain a mailing address of a taxpayer for the purpose of locating such taxpayer to collect or compromise a Federal claim against the taxpayer pursuant to 26 U.S.C. 1603(m)(2), and in accordance with 31 U.S.C. 3711, 3217, and 3718. The Internal Revenue Service may also request locator service for delinquent accounts receivable in order to report closed out accounts as taxable income, including amounts compromised or terminated, and accounts barred from litigation due to age.

To any Federal, state, or local agency for the purpose of conducting an authorized computer-matching program to identify and locate delinquent debtors for recoupment of debts owed DoD.

To publish or otherwise publicly disseminate information regarding the identity of the debtor and the existence of the non-tax debt, subject to review by the Secretary of the Treasury.

The DoD ‘Blanket Routine Uses’ published at the beginning of the DFAS compilation of record system notices also apply to this system.

Disclosure to consumer reporting agencies:

Disclosures pursuant to 5 U.S.C. 552a(b)(12) may be made from this system to ‘consumer reporting agencies’ as defined in the Fair Credit Reporting Act (15 U.S.C. 1681a(f)) or the Federal Claims Collection Act of 1966 (31 U.S.C. 3701(a)(3)). The purpose of this disclosure is to aid in the collection of outstanding debts owed to the Federal government, typically to provide an incentive for debtors to repay delinquent Federal government debts by making these debts part of their credit records.

The disclosure is limited to information necessary to establish the identity of the individual, including name, address, and taxpayer identification number (Social Security Number); the amount, status, and history of the claim; and the agency or program under which the claim arose for the sole purpose of allowing the consumer reporting agency to prepare a commercial credit report.

Policies and practices for storing, retrieving, accessing, retaining, and disposing of records in the system:

Storage:

Records are maintained on computer disks, magnetic tape, microfiche, and paper file folders.

Retrievability:

Retrieved by name, Taxpayer Identification Number, other identification number or system identifier, or name of accountable disbursing office in whose custody the public funds were entrusted when the debt arose.

Safeguards:

Records are accessed by the custodian of the record system and by personnel responsible for servicing the record system in performance of their official duties. Records are stored in locked cabinets or rooms, or in guarded buildings.

Retention and disposal:

All cases will remain active until settled by full payment, waiver, write-off, or close out. The system contains records requiring a retention period of up to 10 years after final action. Records are retired to National Records Centers. Destruction is accomplished by tearing, shredding, pulping, macerating, or burning.

System manager(s) and address:

Chief, Debt Management Systems Division, Directorate of Debt and Claims Management, Defense Finance and Accounting Service—Denver Site, 6760 East Irvington Place, Denver, CO 80279-8000.

Notification procedure:

Individuals seeking to determine whether information about themselves is contained in this system should address written inquiries to the Defense Finance and Accounting Service—Denver Site, DFAS-GA/DE, 6760 East Irvington Place, Denver, CO 80279-8000.

The individuals should furnish their name, Social Security Number, and reasonably describe the information they are seeking.

Record access procedures:

Individuals seeking access to information about themselves contained in this system of records should address written inquiries to the Defense Finance and Accounting Service—Denver Site, DFAS-GA/DE, 6760 East Irvington Place, Denver, CO 80279-8000.

The individuals should furnish their name, Social Security Numbers, and reasonably describe the information they are seeking.

Contesting record procedures:

The DFAS rules for accessing records, for contesting contents and appealing initial agency determinations are published in DFAS Regulation 5400.11-R; 32 CFR part 324; or may be obtained from the Privacy Act Officer at any DFAS Center.

Record source categories:

Records are obtained from the debtor, DFAS centers, other DoD organizations, and agencies of Federal, state, and local governments, as applicable or appropriate for processing the case.

Exemptions claimed for the system:

None.

[FR Doc. 02-16188 Filed 6-26-02; 8:45 am]

BILLING CODE 5001-08-P